DEPARTMENT OF ENERGY

Notice of Establishment: High-Assay Low-Enriched Uranium (HALEU) Consortium

AGENCY: Office of Nuclear Energy, U.S. Department of Energy.

ACTION: Notice of establishment.

SUMMARY: Through this Notice, the Office of Nuclear Energy (NE), U.S. Department of Energy (DOE or the Department), announces the establishment of the High-Assay, Low-Enriched Uranium (HALEU) consortium pursuant to the Energy Act of 2020. This Notice outlines the Department's process for eligible entities to request membership in the consortium.

DATES: The HALEU consortium is established on December 7, 2022.

ADDRESSES: All entities interested in becoming a consortium member must submit by email at HALEUConsortium@nuclear.energy.gov their request for membership. Submit electronic comments in Microsoft Word or PDF file format and avoid the use of special characters or any form of encryption. Please include “Membership in HALEU Consortium” in the subject line.

FOR FURTHER INFORMATION CONTACT: Requests for additional information should be sent to: Mark Angil, Email: HALEUConsortium@nuclear.energy.gov; Telephone: (301) 903-3962.

SUPPLEMENTARY INFORMATION:

I. Background

Section 2001(a)(1) of the Energy Act of 2020 (42 U.S.C. 16281(a)(1)) directs the Secretary of Energy (Secretary) to “establish and carry out, through the Office of Nuclear Energy, a program to support the availability of HA-LEU for civilian domestic research, development, demonstration, and commercial use [the Program].” Section 2001(a)(2)(F) (42 U.S.C. 16281(a)(2)(F)) requires the Secretary to “establish, and from time to time update, a consortium, which may include entities involved in any stage of the nuclear fuel cycle, to partner with the Department to support the availability of HA-LEU for civilian domestic demonstration and commercial use.” NE has created an associated website for this consortium: https://www.energy.gov/ne/us-department-energy-haleu-consortium.

The consortium will provide a forum through which the Department can work with individual members to support the availability of HALEU for civilian domestic demonstration and commercial use. The Department may use the consortium to collect data from individual members, exchange views with individual members on how best to ensure the availability of HALEU in the short term and long term, and develop arrangements to provide HALEU to individual members for demonstration projects and commercial uses. In this regard, the Department intends to undertake biennial surveys to estimate the quantity of HALEU necessary for domestic commercial use for each of the 5 years subsequent to a survey. In addition, the Department may work with individual members of the consortium to develop a schedule for cost recovery of HALEU made available to individual members of the consortium for commercial use.

The Department expects the members of the HALEU consortium to play a pivotal role in the deployment and commercialization of advanced nuclear reactors and related infrastructure. They will also help secure a critical domestic supply of HALEU to support meeting the Administration's climate, economic, and energy security goals.

II. Process for Applying for Membership

The HALEU consortium may include entities involved in any stage of the nuclear fuel cycle. DOE interprets this to mean that any entity that contributes to the production, distribution, or utilization of HALEU is eligible to join the consortium. Any such U.S. entities that are interested in partnering with DOE to support the availability of HALEU for civilian domestic demonstration and commercial use are encouraged to apply for membership in the consortium. At its discretion, DOE may also accept requests for membership in the consortium from entities whose facilities are located in ally or partner nations. Entities interested in becoming a member of the consortium are invited to file a request for membership by email at the following address: HALEUConsortium@nuclear.energy.gov. This request should explain the entity's involvement in the nuclear fuel cycle and the entity's interest in partnering with DOE. It should also provide contact information for the entity's representative(s), including name, affiliation, email, and phone number.

NE will coordinate HALEU consortium membership and consortium activities consistent with its purposes and objectives. Upon receipt of a request and confirmation that the requestor is an entity engaged in the nuclear fuel cycle and eligible for membership, NE will notify the entity that it is a member of the consortium and list the entity as a member of the consortium on the NE website.

If a member of the consortium wishes to resign its membership, the member should notify NE by email at HALEUConsortium@nuclear.energy.gov. Resignation from the consortium shall become effective immediately upon receipt by NE of notice of the entity's wish to resign.

Signing Authority

This document of the Department of Energy was signed on November 29, 2022, by Dr. Kathryn Huff, Assistant Secretary for Nuclear Energy, Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 2, 2022.
Treena V. Garrett,
Federal Register Liaison Officer, U.S. Department of Energy.

[FR Doc. 2022-26577 Filed 12-6-22; 8:45 am]

BILLING CODE 6450-01-P